DEPARTMENT OF THE INTERIOR

Fish and Wildlife Service

[FWS-HQ-IA-2015-N179; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit number | Applicant | Receipt of application Federal Register notice | Permit issuance date
24385B | University of Pennsylvania School of Medicine | 79 FR 15768; March 21, 2014 | August 13, 2014.
24407B | Connecticut Zoological Society | 79 FR 24445; April 30, 2014 | September 5, 2014.
30341B | Dallas World Aquarium | 79 FR 26452; May 8, 2014 | November 25, 2014.
34712B | Louisiana State University Museum of Natural Science | 79 FR 36090; June 25, 2014 | November 5, 2014.
32491B | Southwick's Zoo | 79 FR 36090; June 25, 2014 | January 26, 2015.
24200B | Zoological Society of San Diego | 79 FR 52038; September 2, 2014 | October 20, 2014.
701789 | Binder Park Zoo | 79 FR 65980; November 6, 2014 | June 23, 2015.
003005 | Louisiana State University | 79 FR 72007; December 4, 2014 | June 23, 2015.
10866B | Ox Ranch | 80 FR 255; January 5, 2015 | June 15, 2015.
50631B | Minnesota Zoological Gardens | 80 FR 3249; January 22, 2015 | April 3, 2015.
18705B | Jordan Mercer | 80 FR 3249; January 22, 2015 | April 2, 2015.
751619 | Charles Mercer dba NBJ Zoological Park | 80 FR 3249; January 22, 2015 | June 5, 2015.
53174B | Disney's Animal Kingdom | 80 FR 16694; March 30, 2015 | June 3, 2015.
19311B | Adrian Cieslak | 80 FR 24961; May 1, 2015 | June 24, 2015.
63973B | Jeffery Dobbins | 80 FR 24961; May 1, 2015 | June 30, 2015.
57198B | Alaska Department of Fish and Game | 80 FR 28296; May 18, 2015 | July 9, 2015.
52803B | North Carolina State University | 80 FR 28296; May 18, 2015 | July 8, 2015.
65614B | Terry Small | 80 FR 30263; May 27, 2015 | July 9, 2015.
52662B | Norton-Brown Herbarium, University of Maryland | 80 FR 30263; May 27, 2015 | June 29, 2015.
177999 | Lori Snook | 80 FR 33541; June 12, 2015 | July 15, 2015.
676511 | Virginia Zoological Park | 80 FR 33541; June 12, 2015 | July 23, 2015.
801652 | U.S. Geological Survey, Alaska Science Center | 80 FR 33541; June 12, 2015 | July 15, 2015.
64739B | Andrew Gwynn | 80 FR 33541; June 12, 2015 | July, 27, 2015.
63962B | Disney's Animal Kingdom | 80 FR 33541; June 12, 2015 | July 30, 2015.
54288B | Stanford University | 80 FR 33541; June 12, 2015 | August 13, 2015.
60999B | Wildlife Conservation Society | 80 FR 33541; June 12, 2015 | July 21, 2015.
53974B | Kingsley Rodrigo | 80 FR 36554; June 25, 2015 | June 25, 2015.
64252B | University of Pennsylvania/School of Veterinary Medicine | 80 FR 36554; June 25, 2015 | August 13, 2015.
61389B | Exotic Feline Breeding Compound, Inc. | 80 FR 36554; June 25, 2015 | August 31, 2015.
789828 | Point Defiance Zoo & Aquarium | 80 FR 36554; June 25, 2015 | August 11, 2015.
69019B | Kyle Witwer | 80 FR 39795; July 10, 2015 | August 17, 2015.
48384B | Hurricane Aviaries, Inc. | 80 FR 39795; July 10, 2015 | August 20, 2015.
58979B | California Academy of Sciences | 80 FR 43791; July 23, 2015 | August 24, 2015.
71117B | Mark Corry | 80 FR 46042; August 3, 2015 | September 4, 2015.

Marine Mammals
Permit number | Applicant | Receipt of application Federal Register notice | Permit issuance date
59492B | British Broadcasting Corporation—Ocean | 80 FR 30263; May 27, 2015 | August 31, 2015.
59633B | Melissa McKinney | 80 FR 43790; July 23, 2015 | September 4, 2015.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-23307 Filed 9-16-15; 8:45 am]

BILLING CODE 4310-55-P